DEPARTMENT OF HOUSING AND URBAN DEVELOPMENT

[Docket No. FR-5300-N-17]

Notice of Availability: Notice of Funding Availability (NOFA) for Fiscal Year (FY) 2009 Healthy Homes Demonstration Program

AGENCY: Office of Healthy Homes and Lead Hazard Control, HUD.

ACTION: Notice.

SUMMARY: HUD announces the availability on its Web site of the application information, submission deadlines, funding criteria, and other requirements for the FY 2009 Healthy Homes Demonstration Program NOFA. The Healthy Homes Demonstration Program NOFA makes $6 million available under the Department of Housing and Urban Development Appropriations Act, 2009 (Public Law 111-8, approved March 11, 2009). The notice providing information regarding the application process, funding criteria and eligibility requirements is available on the HUD Web site at http://www.hud.gov/offices/adm/grants/fundsavail.cfm or http://www.hud.gov/offices/lead. The Catalogue for Federal Domestic Assistance (CFDA) number for the Healthy Homes Demonstration Program is 14.901. Applications must be submitted electronically through OHHLHCNOFAreview@HUD.gov.

FOR FURTHER INFORMATION CONTACT: For information concerning the Healthy Homes Demonstration Program, contact Warren Friedman, Senior Advisor to the Director, Office of Healthy Homes and Lead Hazard Control, Department of Housing and Urban Development, 451 Seventh Street, SW., Room 8236, Washington, DC 20410-3000; telephone 202-402-7574 (this is not a toll-free number). Persons with speech or hearing impairments may access this telephone number via TTY by calling the toll-free Federal Information Relay Service during working hours at 800-877-8339.

Dated: September 4, 2009.
Matthew Ammon,
Acting Director, Office of Healthy Homes and Lead Hazard Control.

[FR Doc. E9-23226 Filed 9-24-09; 8:45 am]

BILLING CODE 4210-67-P